DEPARTMENT OF ENERGY

Federal Energy Regulatory Commission

Combined Notice of Filings #1

Take notice that the Commission received the following electric corporate filings:

Docket Numbers: EC13-104-000.

Applicants: Chisholm View Wind Project, LLC.

Description: Amendment to Application for Authorization Under Section 203 of the Federal Power Act of Chisholm View Wind Project, LLC.

Filed Date: 6/6/13.

Accession Number: 20130606-5054.

Comments Due: 5 p.m. ET 6/17/13.

Docket Numbers: EC13-105-000.

Applicants: Prairie Rose Wind, LLC, Prairie Rose Transmission, LLC.

Description: Amendment to Joint Application for Authorization Under Section 203 of the Federal Power Act of Prairie Rose Transmission, LLC, et. al.

Filed Date: 6/6/13.

Accession Number: 20130606-5053.

Comments Due: 5 p.m. ET 6/17/13.

Take notice that the Commission received the following exempt wholesale generator filings:

Docket Numbers: EG13-38-000.

Applicants: Chestnut Flats Lessee, LLC.

Description: Notice of Self-Certification of Exempt Wholesale Generator Status of Chestnut Flats Lessee, LLC.

Filed Date: 6/6/13.

Accession Number: 20130606-5041.

Comments Due: 5 p.m. ET 6/27/13.

Take notice that the Commission received the following electric rate filings:

Docket Numbers: ER13-687-003.

Applicants: Public Service Company of New Mexico.

Description: 2013 Annual Update Filing—GFA to be effective 6/1/2013.

Filed Date: 6/3/13.

Accession Number: 20130603-5109.

Comments Due: 5 p.m. ET 6/24/13.

Docket Numbers: ER13-1249-002.

Applicants: Myotis Power Marketing LLC.

Description: Supplement to 05/29/2013 Myotis Power Marketing LLC tariff filing.

Filed Date: 5/30/13.

Accession Number: 20130530-5083.

Comments Due: 5 p.m. ET 6/19/13.

Docket Numbers: ER13-1356-001.

Applicants: Duke Energy Florida, Inc.

Description: Revised Annual Update of Cost Factors for Duke Energy Florida, Inc. to be effective 5/1/2013.

Filed Date: 6/6/13.

Accession Number: 20130606-5028.

Comments Due: 5 p.m. ET 6/27/13.

Docket Numbers: ER13-1640-000.

Applicants: Pacific Gas and Electric Company.

Description: Refund Report of Pacific Gas and Electric Company in compliance with Final Audit Report [PA12-8].

Filed Date: 6/5/13.

Accession Number: 20130605-5123.

Comments Due: 5 p.m. ET 6/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2013.
Nathaniel J. Davis, Sr.,
Deputy Secretary.

[FR Doc. 2013-14595 Filed 6-18-13; 8:45 am]

BILLING CODE 6717-01-P